OFFICE OF PERSONNEL MANAGEMENT

Excepted Service; January 2016

AGENCY: U.S. Office of Personnel Management (OPM).

ACTION: Notice.

SUMMARY: This notice identifies Schedule A, B, and C appointing authorities applicable to a single agency that were established or revoked from January 1, 2016, to January 31, 2016.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during January 2016.

Schedule B

No Schedule B Authorities to report during January 2016.

Schedule C

The following Schedule C appointing authorities were approved during January 2016.

Agency name | Organization name | Position title | Authorization number | Effective date
Department of Agriculture | Office of Civil Rights | Special Advisor | DA160029 | 1/5/2016
| Office of the Secretary | Special Assistant | DA160031 | 1/6/2016
|  | Senior Advisor | DA160032 | 1/6/2016
| Farm Service Agency | State Executive Director—New Hampshire | DA160033 | 1/6/2016
| Office of the Under Secretary for Marketing and Regulatory Programs | Confidential Assistant | DA160035 | 1/19/2016
Department of Commerce | Office of Assistant Secretary for Industry and Analysis | Deputy Director, Office of Advisory Committees and Industry Outreach | DC160053 | 1/4/2016
| Office of Public Affairs | Chief Speechwriter and Advisor | DC160054 | 1/4/2016
| Office of the Secretary | Director, Office of Faith Based and Neighborhood Partnerships | DC160034 | 1/13/2016
| Office of Assistant Secretary for Enforcement and Compliance | Special Assistant | DC160075 | 1/15/2016
Department of Defense | Office of the Assistant Secretary of Defense (Special Operations/Low Intensity Conflict and Interdependent Capabilities) | Special Assistant for Special Operations/Low Intensity Conflict | DD160054 | 1/14/2016
| Office of the Assistant Secretary of Defense (International Security Affairs) | Special Assistant for Russia, Ukraine and Eurasia | DD160060 | 1/15/2016
| Office of the Assistant Secretary of Defense (International Security Affairs) | Special Assistant | DD160057 | 1/20/2016
| Office of the Secretary of Defense | Advance Officer | DD160047 | 1/28/2016
Department of Education | Office of Elementary and Secondary Education | Strategic Communications Manager | DB160020 | 1/8/2016
| Office of the Secretary | Director of Scheduling and Advance | DB160021 | 1/8/2016
| Office of the Under Secretary | Director of College Scorecard | DB160023 | 1/21/2016
| Office of Communications and Outreach | Deputy Chief of Staff | DB160024 | 1/21/2016
|  | Confidential Assistant | DB160027 | 1/21/2016
|  | Deputy Assistant Secretary for State and Local Engagement | DB160028 | 1/21/2016
|  | Senior Advisor | DB160029 | 1/21/2016
| Office of Postsecondary Education | Senior Policy Advisor | DB160025 | 1/21/2016
Department of Energy | Office of the Under Secretary | Special Assistant | DE160048 | 1/8/2016
| Office of the Secretary | Deputy White House Liaison and Special Project Manager | DE160050 | 1/8/2016
|  | Special Assistant | DE160051 | 1/19/2016
| Office of Scheduling and Advance | Special Assistant | DE160046 | 1/19/2016
| Office of Assistant Secretary for Congressional and Intergovernmental Affairs | Advisor for Intergovernmental and External Affairs | DE160047 | 1/21/2016
Environmental Protection Agency | Office of Public Affairs | Deputy Director of Speechwriting | EP160019 | 1/20/2016
Export-Import Bank | Office of Communications | Director of Speechwriter | EB160002 | 1/15/2016
Department of Health and Human Services | Office of the Assistant Secretary for Public Affairs | Director of Communications, Public Health | DH160048 | 1/4/2016
| Office of the Secretary | Policy Advisor | DH160039 | 1/6/2016
|  | Deputy White House Liaison | DH160046 | 1/6/2016
|  | White House Liaison for Political Personnel, Boards and Commissions | DH160045 | 1/7/2016
|  | Senior Advisor | DH160041 | 1/11/2016
| Office of the Assistant Secretary for Legislation | Policy Advisor | DH160040 | 1/6/2016
| Office of the Assistant Secretary for Children and Families | Special Assistant | DH160042 | 1/6/2016
| Office of the Deputy Secretary | Chief of Staff | DH160043 | 1/6/2016
Department of Homeland Security | Office of the Executive Secretariat | Deputy Secretary Briefing Book Coordinator | DM160101 | 1/19/2016
|  | Secretary's Briefing Book Coordinator | DM160104 | 1/19/2016
|  | Congressional Correspondence Analyst | DM160109 | 1/21/2016
|  | Special Assistant | DM160108 | 1/28/2016
| Federal Emergency Management Agency | Counselor | DM160105 | 1/20/2016
| Office of Assistant Secretary for Legislative Affairs | Director of Legislative Affairs | DM160110 | 1/20/2016
| Ombudsman, Citizenship and Immigration Services | Special Advisor for Public Engagement | DM160106 | 1/28/2016
Department of Housing and Urban Development | Office of the Administration | Advance Coordinator | DU160005 | 1/11/2016
| Office of Housing | Special Assistant | DU160007 | 1/21/2016
Department of the Interior | Office of Assistant Secretary—Fish and Wildlife and Parks | Advisor | DI160028 | 1/16/2016
| Secretary's Immediate Office | Advisor | DI160026 | 1/21/2016
Department of Justice | Office of the Associate Attorney General | Deputy Chief of Staff and Senior Counsel | DJ160032 | 1/6/2016
| Office of the Attorney General | Director of Scheduling | DJ160041 | 1/14/2016
|  | Special Assistant | DJ160049 | 1/29/2016
| Office on Violence Against Women | Advisor | DJ160043 | 1/19/2016
| Office of Justice Programs | Senior Policy Advisor | DJ160044 | 1/21/2016
Department of Labor | Office of the Secretary | White House Liaison and Counselor | DL160018 | 1/5/2016
| Office of the Deputy Secretary | Special Assistant | DL160027 | 1/13/2016
| Office of the Assistant Secretary for Policy | Senior Policy Advisor | DL160029 | 1/20/2016
| Office of Public Affairs | Director of Digital Strategy | DL160030 | 1/20/2016
| Mine Safety and Health Administration | Chief of Staff | DL160033 | 1/29/2016
Office of Management and Budget | General Government Programs | Confidential Assistant | BO160013 | 1/7/2016
| Office of the Director | Confidential Assistant | BO160015 | 1/12/2016
Office of Personnel Management | Office of the Director | Senior Advisor | PM160014 | 1/7/2016
Small Business Administration | Office of Field Operations | Regional Administrator, Region VIII, Denver, Colorado | SB160008 | 1/13/2016
Social Security Administration | Office of the Commissioner | Senior Advisor | SZ160006 | 1/5/2016
Department Of State | Bureau of Arms Control, Verification, and Compliance | Public Affairs Specialist | DS160023 | 1/6/2016
| Bureau for Education and Cultural Affairs | Deputy Assistant Secretary | DS160015 | 1/7/2016
| Foreign Policy Planning Staff | Foreign Affairs Officer | DS160024 | 1/13/2016
| Office of the Chief of Protocol | Protocol Officer (Ceremonials) | DS160021 | 1/19/2016
Department of Transportation | Civil Rights | Special Assistant | DT160025 | 1/28/2016
Department of the Treasury | Office of Assistant Secretary (Legislative Affairs) | Special Assistant | DY160022 | 1/11/2016
| Office of the Secretary of the Treasury | Special Assistant | DY160024 | 1/19/2016
| Office of the Assistant Secretary for Management | Special Assistant | DY160030 | 1/21/2016
United States International Trade Commission | Office of Commissioner Pinkert | Confidential Assistant | TC160003 | 1/14/2016

The following Schedule C appointing authorities were revoked during January 2016.

Agency name | Organization name | Position title | Request number | Date vacated
Department of Agriculture | Rural Housing Service | State Director | DA120064 | 01/06/2016
| Office of the Secretary | Deputy White House Liaison | DA150147 | 01/13/2016
| Office of Communications | Senior Advisor for Strategic Communications | DA150151 | 01/15/2016
| Farm Service Agency | State Executive Director (Wisconsin) | DA130186 | 01/23/2016
Department of Commerce | Office of Public Affairs | Deputy Speechwriter | DC150153 | 01/09/2016
| Office of Legislative and Intergovernmental Affairs | Associate Director of Legislative Affairs and Senior Advisor for Native American Affairs | DC150064 | 01/15/2016
| Economic Development Administration | Senior Advisor | DC140150 | 01/23/2016
| Office of the Chief of Staff | Senior Protocol Officer | DC140122 | 01/23/2016
Office of the Secretary of Defense | Office of the Secretary | Special Assistant to the Secretary of Defense | DD150150 | 01/03/2016
| Office of Principal Deputy Under Secretary for Policy | Special Assistant to the Deputy Under Secretary of Defense for Strategy, Plans and Forces | DD150134 | 01/08/2016
| Office of the Secretary | Confidential Assistant to the Secretary of Defense | DD070181 | 01/09/2016
| Office of the Assistant Secretary of Defense (International Security Affairs) | Special Assistant to the Deputy Assistant Secretary of Defense, Russia, Ukraine and Eurasia | DD150036 | 01/16/2016
Department of the Air Force | Office of the Under Secretary | Special Assistant | DF150024 | 01/29/2016
Department of Education | Office of Communications and Outreach | Confidential Assistant (2) | DB150026 | 01/09/2016
|  |  | DB140040 | 01/23/2016
|  | Deputy Chief of Staff | DB150117 | 01/23/2016
| Office of the Secretary | Special Assistant | DB150043 | 01/09/2016
|  | Deputy Director, Office of Educational Technology | DB140012 | 01/23/2016
| Office of the Under Secretary | Deputy Director of the White House Initiative on American Indian and Alaska Native Education | DB120072 | 01/09/2016
|  | Deputy Director (White House Initiative on Educational Excellence for African Americans) | DB150027 | 01/30/2016
| Office of Postsecondary Education | Deputy Chief of Staff | DB150096 | 01/23/2016
| Office of Elementary and Secondary Education | Chief of Staff | DB140049 | 01/29/2016
Department of Energy | Office of Management | Special Assistant | DE140054 | 01/09/2016
| Office of the Secretary | Deputy White House Liaison | DE140061 | 01/09/2016
| Office of the Under Secretary for Science | Senior Advisor | DE140057 | 01/09/2016
Environmental Protection Agency | Office of Advance Staff | Deputy for Advance | EP150007 | 01/16/2016
| Office of the Associate Administrator for Congressional and Intergovernmental Relations | Deputy Associate Administrator for Congressional Affairs | EP130031 | 01/16/2016
| Office of Public Affairs | Speech Writer | EP140031 | 01/23/2016
General Services Administration | Office of Communications and Marketing | Press Secretary | GS150034 | 01/03/2016
Department of Health and Human Services | Office of the Assistant Secretary for Public Affairs | Communications Director for Public Health | DH150019 | 01/03/2016
| Office of Intergovernmental and External Affairs | Director of Business Outreach | DH140073 | 01/08/2016
| Office of the Secretary | White House Liaison for Political Personnel, Boards and Commissions | DH130091 | 01/08/2016
|  | Deputy White House Liaison | DH140002 | 01/09/2016
|  | Director of Scheduling and Advance | DH140119 | 01/09/2016
|  | Special Assistant | DH140139 | 01/09/2016
| Office of the Assistant Secretary for Children and Families | Confidential Assistant | DH150003 | 01/09/2016
| Office of the Assistant Secretary for Legislation | Special Assistant for Human Services | DH140126 | 01/09/2016
| Office of the Deputy Secretary | Chief of Staff to the Deputy Secretary | DH120045 | 01/09/2016
| Office of the Assistant Secretary for Public Affairs | Confidential Assistant | DH150178 | 01/29/2016
Department of Homeland Security | Office of Assistant Secretary for Legislative Affairs | Legislative Affairs Specialist | DM160035 | 01/08/2016
| Office of the Under Secretary for National Protection and Programs Directorate | Advisor for Counterterrorism and Intelligence | DM140246 | 01/10/2016
|  | Confidential Assistant | DM140218 | 01/10/2016
| Federal Emergency Management Agency | Special Assistant to the Administrator | DM140112 | 01/23/2016
| Office of the Executive Secretariat | Writer-Editor | DM140232 | 01/23/2016
Department of the Interior | Office of Assistant Secretary (Water and Science) | Counselor to the Assistant Secretary (Water and Science) | DI140040 | 01/09/2016
| Office of Assistant Secretary (Fish, Wildlife, and Parks) | Advisor | DI140073 | 01/15/2016
| Secretary's Immediate Office | Special Assistant | DI140072 | 01/23/2016
Department of Justice | Office of Justice Programs | Director, Faith-Based and Neighborhood Partnerships | DJ110002 | 01/09/2016
|  | Policy Advisor | DJ140117 | 01/23/2016
|  | Senior Counsel | DJ150084 | 01/30/2016
| Office of Legislative Affairs | Attorney Advisor | DJ150080 | 01/09/2016
| Office of the Associate Attorney General | Deputy Chief of Staff and Counsel | DJ150002 | 01/09/2016
| Office of the Attorney General | Special Assistant | DJ150020 | 01/23/2016
|  | Special Assistant and Scheduler | DJ150082 | 01/23/2016
Department of Labor | Office of the Assistant Secretary for Policy | Associate Deputy Assistant Secretary | DL150004 | 01/02/2016
|  | Senior Policy Advisor | DL140081 | 01/09/2016
| Office of the Secretary | Special Assistant | DL150015 | 01/09/2016
|  | White House Liaison | DL140037 | 01/10/2016
| Mine Safety and Health Administration | Chief of Staff | DL140100 | 01/23/2016
| Office of the Deputy Secretary | Special Assistant | DL150024 | 01/23/2016
| Office of the Secretary | Special Assistant | DL140048 | 01/23/2016
National Endowment for the Humanities | Office of the Chairman | Confidential Assistant to the Chief of Staff | NH140005 | 01/23/2016
Office of Management and Budget | Office of the Director | Assistant to the Deputy Director for Management | BO150030 | 01/02/2016
| Office of Federal Procurement Policy | Confidential Assistant | BO150041 | 01/23/2016
Small Business Administration | Office of Faith-Based and Community Initiatives | Assistant Administrator for Public Engagement | SB150036 | 01/19/2016
| Office of the Administrator | Director of Scheduling and Advance | SB140035 | 01/22/2016
|  | Special Assistant for Scheduling and Advance | SB150027 | 01/24/2016
| Office of Intergovernmental Affairs | Associate Administrator for Intergovernmental Affairs | SB150037 | 01/23/2016
Department of State | Office of the Deputy Secretary for Management and Resources | Senior Advisor | DS140077 | 01/09/2016
| Office of the Global Women's Issues | Senior Advisor | DS130098 | 01/18/2016
| Bureau of Arms Control, Verification, and Compliance | Public Affairs Specialist | DS150015 | 01/23/2016
Department of Transportation | Office of General Counsel | Associate General Counsel | DT140057 | 01/09/2016
Department of the Treasury | Office of the Secretary of the Treasury | Special Assistant | DY140114 | 01/09/2016
United States International Trade Commission | Office of Commissioner Pinkert | Executive Assistant | TC120009 | 01/04/2016
| Office of Commissioner Schmidtlein | Confidential Assistant | TC140010 | 01/22/2016
Department of Veterans Affairs | Office of the Assistant Secretary for Public and Intergovernmental Affairs | Special Assistant | DV130025 | 01/22/2016

Authority: 5 U.S.C. 3301 and 3302; E.O. 10577, 3 CFR, 1954-1958 Comp., p. 218.

U.S. Office of Personnel Management.
Beth F. Cobert,
Acting Director.

[FR Doc. 2016-11723 Filed 5-17-16; 8:45 am]

BILLING CODE 6325-39-P